DEPARTMENT OF THE INTERIOR

Bureau of Land Management

[CA-610-01-1610-DL]

Draft Northern & Eastern Colorado Desert Coordinated Management Plan and Environmental Impact Statement: an Amendment to the California Desert Conservation Area Plan, 1980 and Sikes Act Plan With the California Department of Fish and Game

AGENCY: Bureau of Land Management, California Desert District Office, Riverside, California.

ACTION: Notice of availability of draft Northern & Eastern Colorado Desert Coordinated Management Plan and Environmental Impact Statement.

SUMMARY: Notice is hereby given that the Draft Northern and Eastern Colorado Desert Coordinated Management Plan (Plan) and Environmental Impact Statement is available for public review and comment. The Plan will amend BLM's 1980 California Desert Conservation Area Plan, complement the existing Joshua Tree National Park General Management Plan and Backcountry and Wilderness Management Plan, and serve as a basis for a biological resources management plan for the Chocolate Mountains Aerial Gunnery Range, managed by U.S. Marine Corps. The Plan also will provide for strategic, ecosystem-comprehensive management, including a programmatic biological opinion for the desert tortoise, provide for desert tortoise recovery, reduce the need to further species listings, and streamline the processing of land use permits on public land in the southeastern portion of the California Desert Conservation Area.

DATES: The 90-day public review and comment period for the draft Plan and EIS will begin February 26, 2001. Written statements on the Draft Plan and EIS must be submitted and postmarked no later than May 26, 2001.

ADDRESSES: Comments on the document should be mailed to the Bureau of Land Management, Attn: Northern & Eastern Colorado Desert Coordinated Management Plan, 6221 Box Springs Blvd., Riverside, CA 92507. Comments on the draft Plan and the EIS will be considered in preparing the Proposed Plan and Final EIS. Public meetings also will be held in various cities in and around the planning area to receive comments. The dates, times, and locations of these meetings will be announced later.

FOR FURTHER INFORMATION CONTACT: Dick Crowe, California Desert District, 6221 Box Springs Blvd., Riverside, California 92507; phone (909) 697-5216.

SUPPLEMENTARY INFORMATION: A bound or CDRom copy of the draft is available at the California District Office in Riverside (address above) and offices listed below. The Draft Plan also is available online at http://www.ca.blm.gov/cdd/landuseplanning.html. Reading copies are available at most local libraries and the following BLM and Park Service offices: BLM California Desert District Office, 6221 Box Springs Blvd., Riverside, CA (909) 697-5200; BLM Barstow Field Office, 2601 Barstow Road, Barstow, CA (760) 252-6000; BLM El Centro Field Office, 1661 S. 4th Street, El Centro, CA (760) 337-4400; BLM Needles Field Office, 101 West Spikes Road, Needles, CA (760) 326-7000; BLM Palm Springs Field Office, 690 West Garnet, North Palm Springs, CA (760) 251-4800; BLM Ridgecrest Field Office, 300 S. Richmond Road, Ridgecrest, CA (760) 384-5400; Joshua Tree National Park 54485 Joshua Tree National Park, Twentynine Palms, CA (760) 367-5502.

The planning area covers 5.5 million acres in the southeastern California Desert. The document describes and analyzes four alternatives for managing species and habitats on federal lands administered by the BLM, Joshua Tree National Park, and the U.S. Marine Corps Chocolate Mountains Aerial Gunnery Range. The alternatives address issues identified during public scoping: (1) recovery of the desert tortoise, a listed (threatened) species under both federal and state endangered species acts; (2) conservation of the variety of other species and habitats; and (3) public lands access and uses. BLM is the lead agency for the Plan.

Dated: February 22, 2001,
Alan Stein,
Acting District Manager.

[FR Doc. 01-6111 Filed 3-9-01; 8:45 am]

BILLING CODE 4310-40-P